DEPARTMENT OF TRANSPORTATION

Federal Highway Administration

Environmental Impact Statement: Jefferson and Clearfield Counties, Pennsylvania

AGENCY: Federal Highway Administration (FHWA), DOT.

ACTION: Notice of intent.

SUMMARY: The FHWA is issuing this notice to advise the public that an Environmental Impact Statement will be prepared for a proposed highway project in Jefferson and Clearfield Counties, Pennsylvania.

FOR FURTHER INFORMATION CONTACT: David W. Cough, P.E., Director of Operations, Federal Highway Administration, Pennsylvania Division , 228 Walnut Street, Room 536, Harrisburg, Pennsylvania 17101-1720, (717) 221-3411 or Mark S. Rozich, P.E., Project Manager, Pennsylvania Department of Transportation, District 10-0, Route 286 South, P.O. Box 429, Indiana, Pennsylvania 15701, (724) 357-2852.

SUPPLEMENTARY INFORMATION: The FHWA, in cooperation with the Pennsylvania Department of Transportation (PENNDOT), will prepare an Environmental Impact Statement (EIS) for a transportation improvement within the study area of U.S. Route 219 (eastern terminus), S.R. 0830 (western terminus), Interstate 80 (southern terminus), and the DuBois-Jefferson County Airport (northern terminus). The project will include the development of a reasonable range of alternatives that meet the project need and supporting environmental documentation and analysis to recommend a preferred alternative for implementation. A complete public involvement program is part of the project.

The purpose of the transportation improvement is to improve access to the DuBois-Jefferson County Airport and the associated Keystone Opportunity Zone (KOZ) and Foreign Trade Zone (FTZ). Based upon a needs analysis completed in 2001, transportation improvements are needed to support the regional economic development goals planned for the area, encourage the regional intermodal needs of the area by providing safe and efficient access to the airport, and maintain consistency with the region's transportation goals and objectives as defined by the North Central Pennsylvania Regional Planning and Development Commission.

Alternatives that will be considered include: The no-build; upgrade of existing roadways within the study area; and new roadway alignment with a new interchange on Interstate 80. These alternatives will be the basis for a recommendation of alternatives to be carried forward for detailed environmental and engineering studies in the EIS. Incorporated into and studied with the various alternatives will be design variations of grade and alignment.

Public meetings have been and will continue to be held throughout the development of the EIS for the general public and agencies. A Project Mailing List, a Project Newsletter and a Project Web Site will established to inform the public of project milestones.

Periodic meetings are scheduled with the state and federal environmental agencies through an Agency Coordination Meetings (ACM) to present project as well as receive comments and concerns from the agencies on the development of the project alternatives, the assessment of impacts and the identification of mitigations measures. Letters describing the proposed action and soliciting comments will be sent to appropriate federal, state and local agencies and to private organizations and citizens who have previously expressed or are known to have an interest in the project.

To ensure the full range of issues related to this proposed action are addressed and all significant issues identified, comments and suggestions are invited from all interested parties. Comments and questions concerning this proposed action and the EIS should be directed to the FHWA or PENNDOT at the addresses provided above.

(Catalogue of Federal Domestic Assistance Number 20.205, Highway Planning and Construction. The regulations implementing Executive Order 12372 regarding intergovernmental consultation of Federal programs and activities apply to this program)
James A. Cheatham,
FHWA Division Administrator, Harrisburg, Pennsylvania.

[FR Doc. 02-1285 Filed 1-17-02; 8:45 am]

BILLING CODE 4910-22-M